DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of September and October, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Workers Adjustment Assistance

In each of the following cases the investigation revealed that criterion (3) has not been met. A survey of customers indicated that increased imports did not contribute importantly to worker separations at the firm.

TA-W-39,813A & B; Greenwood Mills, Inc., Chalmers Plant, Greenwood, SC and Greenwood Mills, Inc., Lindale Manufacturing, Lindale, GA

TA-W-39,708; Globe Metallurgical, Springfield, OR

TA-W-39,016; Wabash Alloys LLC, Oak Creek, WI

TA-W-38,103; Sierra Pine Limited, Springfield Particleboard Div., Springfield, OR

TA-W-39,237; International Paper, Sheet Plant, Tupelo, MS

TA-W-39,648; Greg Stout Logging, Inc., Gold Hill, OR

TA-W-39,687; Ohio Industries, Bucyrus, OH

TA-W-39,394; Pittsburgh Gear Works, Inc., Pittsburgh, PA

TA-W-39,621; Franklyn Industries, div. of the Merrow Machine Co., Inc., Lavonia, GA

In the following cases, the investigation revealed that the criteria for eligibility have not been met for the reasons specified.

Increased imports did not contribute importantly to worker separations at the firm.

TA-W-39,978; Hein-Werner, Snap-On, Inc., Barboo, WI

TA-W-39,798; Friedrich & Dimmock, Inc., Millville, NJ

TA-W-39,709; Gemtron Corp., Clarksville, TN

TA-W-39,392; Aavid Thermalloy LLC, Dallas, TX

TA-W-39,165; E.C.I. Sportswear, Inc., New Bedford, MA

The workers firm does not produce an article as required for certification under Section 222 of the Trade Act of 1974.

TA-W-39,970; KOA Speer Electronics, Inc., Bradford, PA

TA-W-40,026; American DeRosa Lamp Parts, Commerce, CA

TA-W-39,161; Almond International, Westbury, NY

The investigation revealed that criteria (2) has not been met. Sales or production did not decline during the relevant period as required for certification.

TA-W-39,848; Trane Co., A Division of American Standard, LaCrosse, WI.

TA-W-39,669; Conneaut Industries, Inc., West Greenwich, RI

The investigation revealed that criteria (1) and (3) have not been met. A significant number or proportion of the workers did not become totally or partially separated from employment as required for certification. Increased imports did not contribute importantly to worker separations at the firm.

TA-W-39,162; ME International, Inc., Duluth, MN

The investigation revealed that criteria (2) and (3) have not been met. Sales or production did not decline during the relevant period as required for certification. Increased imports did not contribute importantly to worker separations at the firm.

TA-W-39,109; Alcoa, Inc., St. Lawrence Plant, Massena, NY

Affirmative Determinations for Worker Adjustment Assistance

The following certifications have been issued; the date following the company name and location of each determination references the impact date for all workers of such determination.

TA-W-39,822; Sweetwater Walls Industries, Inc., Sweetwater, TX: July 24, 2000.

TA-W-39,273; United States Steel LLC, Fairless Hills, PA: May 4, 2000.

TA-W-38,764; Brown Wooten Mills, Inc., Ballston Plant, Mt. Airy, NC: February 1, 2000.

TA-W-39,712; Signet Armorlite, Inc., San Marcos, CA: July 17, 2000.

TA-W-38,880; Cooper Energy Services, Ajax-Superior Div., Springfield, OH: March 6, 2000.

TA-W-39,607; UniFirst Corp., Wilburton, OK: June 18, 2000.

TA-W-39,368; Siemens Automotive Corp., Safety Electronics Div., Johnson City, TN: May 18, 2000.

TA-W-39,820; Tyco Electronics, Shrewsbury Molding Plant, Shrewsbury, PA: July 24, 2000.

TA-W-39,728; Graphic Controls, Cherry Hill Facility, Including Temporary Workers of Kaye Personnel, Inc., Cherry Hill, NJ: July 10, 2000.

TA-W-39,943; Realco Diversified, Inc., Meadville, PA: August 14, 2000.

TA-W-39,783; Plasticsource, Inc., Kelly Staff Leasing, El Paso, TX: July 26, 2000.

TA-W-39,445; Thomason Multimedia, Inc., ATO Division, Dunmore, PA May 16, 2000.

TA-W-39,813; Greenwood Mills, Inc., Executive Office, Greenwood, SC: August 1, 2000

TA-W-39,813C; Greenwood Mills, Inc., Aquatech Manufacturing, Inc., Cookeville, TN: November 11, 2001.

TA-W-39,953; Zexel Valeo Compressor USA, Decatur, IL: August 17, 2000.

TA-W-39,827; Southeast Mat Co., Crossville, TN: July 30, 2000.

TA-W-39,847; United Tool and Die, Inc., Meadville, PA July 30, 2000.

TA-W-39,198 & A; Stanley Mechanics Tools, Dallas, TX and Wichita Falls, TX: March 14, 2000.

TA-W-39,515; Teledyne Technologies, Teledyne Relays, Hawthorne, CA: June 4, 2000.

TA-W-39,976; VF Imagewear (West), Inc., Harriman, TN: August 22, 2000.

TA-W-39,823; Louisville/Saydah Home Fashions, Eminence, KY: July 11, 2000.

TA-W-39,752; Sola Optical USA, Inc., Eldon, MO: July 20, 2000.

TA-W-39,821; Clifton Walls Industries, Inc., Clifton, TX: July 24, 2000.

TA-W-39,731; Matsushita Refrigeration Company of America, Vonore, TN: July 16, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of September and October, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely.

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05261; Hein-Werner, Snap-On, Inc., Braboo, WI

NAFTA-TAA-04822; ME International, Inc., Duluth, MN

NAFTA-TAA-05176; Greenwood Mills, Lindale Manufacturing Co., Lindale, GA

NAFTA-TAA-05163; Tyco Electronics, Fiber Optics Div., Glen Rock, PA

NAFTA-TAA-05053; Greg Stout Logging, Inc., Gold Hill, OR

NAFTA-TAA-05201; AC Enterprises Construction and Fab, Inc., Fargo, ND

NAFTA-TAA-04761; Sierra Pine Limited, Springfield Particleboard Div., Springfield, OR

The workers firm does not produce an article as required for certification under Section 222 of the Trade Act of 1974.

NAFTA-TAA-05340; Qwest Wireless, Wireless Customer Care Center, Denver, CO

Affirmative Determinations NAFTA-TAA

NAFTA-TAA-05209; Layne Christensen, Christensen Mining Products, Salt Lake City, UT: August 8, 2000.

NAFTA-TAA-05193; Micro Motion, Inc., Boulder, CO: August 7, 2000.

NAFTA-TAA-05182; Sweetwater Walls Industries, Inc., Sweetwater, TX July 24, 2000

NAFTA-TAA-05205; Signet Armorlite, Inc., San Marcos, CA: July 17, 2000.

NAFTA-TAA-05056; Bike Athletic Co., Mountain City, TN: July 9, 2000.

NAFTA-TAA-04887; Siemens Automotive Corp., Safety Electronics Div., Johnson City, TN: May 9, 2000.

NAFTA-TAA-05100; International Components Technology Corp., San Jose, CA

NAFTA-TAA-05263; VF Imagewear (West), Inc., Harriman, TN: August 22, 2000.

NAFTA-TAA-04992; Teledyne Technologies, Teledyne Relays, Hawthorne, CA: June 4, 2000.

NAFTA-TAA-05239; Rundel Products, Inc., Portland, OR: August 22, 2000.

NAFTA-TAA-05181; Clifton Walls Industries, Inc., Clifton, TX: July 24, 2000.

NAFTA-TAA-05138; Power One, Allston, MA: July 18, 2000.

NAFTA-TAA-05132; Gemtron Corp., Clarksville, TN: July 17, 2000.

I hereby certify that the aforementioned determinations were issued during the month of September and October, 2001. Copies of these determinations are available for inspection in Room C-5311, U.S. Department of Labor, 200 Constitution Avenue, NW., Washington, DC 20210 during normal business hours or will be mailed to persons who write to the above address.

Dated: October 12, 2001.
Edward A. Tomchick,
Director, Division of Trade Adjustment Assistance.

[FR Doc. 01-26349 Filed 10-18-01; 8:45 am]

BILLING CODE 4510-30-M